DEPARTMENT OF THE INTERIOR

Bureau of Indian Affairs

Proclaiming Certain Lands as Reservation for the Cow Creek Band of Umpqua Tribe of Indians in Oregon

AGENCY: Bureau of Indian Affairs, Interior.

ACTION: Notice of reservation proclamation.

SUMMARY: The Assistant Secretary—Indian Affairs proclaimed approximately 285.16 acres as an addition to the reservation of the Cow Creek Band of Umpqua Tribe of Indians on March 10, 2000. This notice is published in the exercise of authority delegated by the Secretary of the Interior to the Assistant Secretary—Indian Affairs by 209 DM 8.1.

FOR FURTHER INFORMATION CONTACT: Larry E. Scrivner, Bureau of Indian Affairs, Division of Real Estate Services, MS-4510/MIB/Code 220, 1849 C Street, NW, Washington, DC 20240, telephone (202) 208-7737.

SUPPLEMENTARY INFORMATION: A proclamation was issued according to the Act of June 18, 1934 (48 Stat. 986; 25 U.S.C. 467), for the tract of land described below. The land was proclaimed to be an addition to and part of the reservation of the Cow Creek Band of Umpqua Tribe of Indians for the exclusive use of Indians on that reservation who are entitled to reside at the reservation by enrollment or tribal membership.

Reservation of the Cow Creek Band of Umpqua Tribe of Indians

Parcel 1

A portion of the Southeast quarter of Section 11 and the Southwest quarter of Section 12, Township 29 South, Range 6 West, Willamette Meridian, Douglas County, Oregon, described as follows: Beginning at an iron pipe from which point the corner to Sections 11, 12, 13 and 14, Township 29 South, Range 6 West, Willamette Meridian, Douglas County, Oregon, bears South 7°44′ West 672.8 feet; thence South 86°43′30″ West 261.75 feet; thence North 69°43′ West 623.0 feet to the southeast corner of the lands of G.E. Clayton as described in deed, Recorder's No. 91854, Deed records of Douglas County, Oregon; thence North 7°47′ East 1633.33 feet along the east line of said Clayton lands to an iron pipe on the south right of way of Old State Highway No. 99, which point is also a P.C. of a 9°30′ curve left with central angle 5°05′; thence along the south right of way of said curve to the left, 53.5 feet to the P.C. of said curve; thence South 80°19′ East 812.3 feet along said south right of way of Old Highway No. 99 to an iron pipe; thence South 7°47′ West 1686.8 feet to the place of beginning.

EXCEPT that portion thereof lying Southerly of the following described line: Beginning at a point on the easterly line of the above described lands, which bears North 8°00′ East 689.17 feet from the section corner common to Sections 11, 12, 13 and 14, Township 29 South, Range 6 West, Willamette Meridian, Douglas County, Oregon; thence running North 77°28′40″ West 864.57 feet to the southeast corner of lands conveyed to G.E. Clayton by Deed recorded in Volume 167, Recorder's No. 91854, Deed Records of Douglas County, Oregon.

Said premises are also known as Parcel 2 of Land Partition No. 1991-10, Partition Plat Records of Douglas County, Oregon.

Together with an easement as granted in Recorder's No. 91-4911, Records of Douglas County, Oregon, containing 32.84 acres, more or less.

Parcel 2

All of that portion of the following described real property lying in the South half of Section 12, Township 29 South, Range 6 West, and in the Southwest quarter of Section 7, Township 29 South, Range 5 West, Willamette Meridian, Douglas County, Oregon, and within a parcel described by Warranty Deed, Recorder's No. 96-14413, Records of Douglas County, Oregon: Beginning at the section corner common to Sections 7 and 18, Township 29 South, Range 5 West, and to Sections 12 and 13, Township 29 South, Range 6 West, Willamette Meridian, Douglas County, Oregon: thence along the south boundary of said Section 12, Township 29 South, Range 6 West, South 86°25′08″ West 2557.11 feet to the quarter corner common to said Sections 12 and 13, Township 29 South, Range 6 West; thence continuing along said south boundary of said Section 12, North 88°47′15″ West 1294.35 feet to a ⅝ inch iron rod; thence leaving said south boundary of said Section 12 and running North 0°27′56″ West 27.41 feet to a ⅝ inch iron rod; thence North 84°12′23″ West 778.16 feet to a ⅝ inch iron rod; thence North 88°47′10″ West 21.05 feet to a ⅝ inch iron rod; thence North 70°09′59″ West 102.84 feet to a ⅝ inch iron rod; thence North 25°33′36″ West 112.45 feet to a ⅝ inch iron rod; thence North 17°14′59″ West 466.80 feet to a ⅝ inch iron rod; thence North 78°45′34″ West 68.44 feet to a ⅝ inch iron rod; thence North 7°19′04″ East 1678.92 feet to a ⅝ inch iron rod located on the southerly right of way of State Highway No. 99; thence along said southerly right of way, South 80°55′54″ East 773.94 feet to a ⅝ inch iron rod; thence continuing along said southerly right of way, South 80°58′54″ East 705.26 feet to a ⅝ inch iron rod; thence continuing along said southerly right of way, along the arc of a 1462.40 foot radius curve to the left, the long chord of which bears North 89°54′28″ East 463.13 feet to a ⅝ inch iron rod; thence continuing along said southerly right of way, North 80°47′49″ East 413.83 feet to a ⅝ inch iron rod; thence leaving said southerly right of way of said State Highway No. 99, and running South 16°36′07″ East 391.53 feet to a ⅝ inch iron rod; thence South 16° 17′28″ East 548.51 feet to a ⅝ inch iron rod; thence North 78°21′39″ East 177.48 feet to a ⅝ inch iron rod; thence North 7°01′04″ East 133.17 feet to a ⅝ inch iron rod; thence North 70°11′35″ East 329.53 feet to a ⅝ inch iron rod; thence North 76°52′25″ East 311.43 feet to a ⅝ inch iron rod; thence North 81°14′36″ East 273.93 feet to a ⅝ inch iron rod; thence North 81°16′41″ East 274.05 feet to a ⅝ inch iron rod; thence South 81°46′40″ East 262.71 feet to a ⅝ inch iron rod; thence North 48°59′59″ East 345.89 feet to a ⅝ inch iron rod; thence South 69°12′59″ East 669.35 feet to a ⅝ inch iron rod; thence South 46°09′21″ East 1463.80 feet to a ⅝ inch iron rod; thence South 28°46′18″ East 551.96 feet to a ⅝ inch iron rod; thence South 18°12′15″ East 87.52 feet to a ⅝ inch iron rod located on the south boundary of said Section 7, Township 29 South, Range 5 West, Willamette Meridian; thence along said south boundary of said Section 7, Township 29 South, Range 5 West, North 89°02′06″ West 1660.45 feet to the point of beginning. Containing 252.32 acres, more or less.

Together, Parcels 1 and 2 contain a total of 285.16 acres, more or less.

Title to the land described above is conveyed subject to any valid existing easements for public roads and highways, for public utilities and for railroads and pipelines and any other rights-of-way or reservations of record.

This proclamation does not affect title to the land described above, nor does it affect any valid existing easements for public roads and highways, for public utilities and for railroads and pipelines and any other rights-of-way or reservations of record.

Dated: March 10, 2000.
Kevin Gover,
Assistant Secretary—Indian Affairs.

[FR Doc. 00-6963 Filed 3-20-00; 8:45 am]

BILLING CODE 4310-02-P